DEPARTMENT OF THE TREASURY

Submission for OMB Review; Comment Request

October 24, 2013.

The Department of the Treasury will submit the following information collection request to the Office of Management and Budget (OMB) for review and clearance in accordance with the Paperwork Reduction Act of 1995, Public Law 104-13, on or after the date of publication of this notice.

DATES: Comments should be received on or before November 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Community Development Financial Institutions (CDFI) Fund

OMB Number: 1559-0027.

Type of Review: Revision of a currently approved collection.

Title: CDFI Program and NMTC Program Annual Report including CIIS.

Abstract: The annual report provides qualitative and quantitative information on the Awardee's compliance with its performance goals, its financial health and the timeline in which the CDFI Fund's financial and technical assistance was used. The data collection will be used to collect compliance and performance data from certified CDFIs and CDEs and from NACD awardees.

Affected Public: Private Sector: Businesses or other for-profits, Not-for-profit institutions.

Estimated Annual Burden Hours: 46,959.

Dawn D. Wolfgang,
Treasury PRA Clearance Officer.

[FR Doc. 2013-25632 Filed 10-29-13; 8:45 am]

BILLING CODE 4810-70-P